Memorandum of July 21, 2005

Assignment of Certain Functions Under Section 337 of the Tariff Act of 1930

Memorandum for the United States Trade Representative

By the authority vested in me by the Constitution and the laws of the United States of America, including section 301 of title 3, United States Code, I hereby assign to you the functions of the President under section 337(j)(1)(B), section 337(j)(2), and section 337(j)(4) of the Tariff Act of 1930, as amended (19 U.S.C. 1337(j)(1), (j)(2), and (j)(4)).

You are authorized and directed to publish this memorandum in the Federal Register.

B

THE WHITE HOUSE,

Washington, July 21, 2005.

[FR Doc. 05-14889

Filed 7-25-05; 8:45 am]

Billing code 3190-01-P